FEDERAL COMMUNICATIONS COMMISSION

Notice of Public Information Collection(s) Approved by the Office of Management and Budget

February 19, 2008.

SUMMARY: The Federal Communications Commission has received Office of Management and Budget (OMB) approval for the following public information collection(s) pursuant to the Paperwork Reduction Act of 1995 (44 U.S.C. sections 3501-3520). An agency may not conduct or sponsor a collection of information unless it displays a currently valid OMB control number, and no person is required to respond to a collection of information unless it displays a currently valid OMB control number. Comments concerning the accuracy of the burden estimate(s) and any suggestions for reducing the burden should be directed to the person listed in the FOR FURTHER INFORMATION CONTACT section below.

FOR FURTHER INFORMATION CONTACT: For additional information contact Carol Simpson either by e-mail address at carol.simpson@fcc.gov or telephone at 202 418-2391.

SUPPLEMENTARY INFORMATION: OMB Control Number: 3060-0957.

OMB Approval Date: December 31, 2007.

Expiration Date: December 31, 2010.

Title: Requests for waiver of deadline on location-capable handset deployment (Fourth Memorandum Opinion and Order in CC Docket No. 94-102).

Form No.: Not applicable.

Estimated Annual Burden: 2500 responses; 3 hours per response; 7500 hours total per year.

Obligation to Respond: Required to obtain or retain benefits.

Nature and Extent of Confidentiality: The burden contained in the MO&O does not address any matters of a sensitive nature.

Needs and Uses: This decision revised and made adjustments to the deployment schedule that must be followed by wireless carriers that chose to implement E911 service using a handset-based technology. The Commission also deferred the date for initial distribution of Automatic Location Identification (ALI)-capable handsets by seven months; adjusting the timetable for carriers to meet certain interim benchmarks for activating new ALI-capable handsets; deferred the date by which a carrier must achieve full penetration of ALI-capable handsets by one year; modified the manner in which the Commission defined full penetration; eliminated the separate handset phase-in schedule triggered by a request from a Public Safety Answering Point (PSAP), and addressed several other issues regarding implementation of enhanced 911 Phase II.

Federal Communications Commission.
Marlene H. Dortch,
Secretary.

[FR Doc. E8-3537 Filed 2-22-08; 8:45 am]

BILLING CODE 6712-01-P